Title 3—

The President

Presidential Determination No. 2001-03 of October 28, 2000

Determination to Waive Attachment Provisions Relating to Blocked Property of Terrorist-List States

Memorandum for the Secretary of State [and] the Secretary of the Treasury

By the authority vested in me as President by the Constitution and laws of the United States of America, including section 2002(f) of H.R. 3244, “Victims of Trafficking and Violence Protection Act of 2000,” (approved October 28, 2000), I hereby determine that subsection (f)(1) of section 1610 of title 28, United States Code, which provides that any property with respect to which financial transactions are prohibited or regulated pursuant to section 5(b) of the Trading with the Enemy Act (50 U.S. App. 5(b), section 620(a) of the Foreign Assistance Act of 1961 (22 U.S.C. 2370(a)), sections 202 and 203 of the International Emergency Economic Powers Act (50 U.S.C. 1701—1702), and proclamations, orders, regulations, and licenses issued pursuant thereto, be subject to execution or attachment in aid of execution of any judgment relating to a claim for which a foreign state claiming such property is not immune from the jurisdiction of courts of the United States or of the States under section 1605(a)(7) of title 28, United States Code, would impede the ability of the President to conduct foreign policy in the interest of national security and would, in particular, impede the effectiveness of such prohibitions and regulations upon financial transactions. Therefore, pursuant to section 2002(f) of H.R. 3244, the “Victim's of Trafficking and Violence Protection Act of 2000,” I hereby waive subsection (f)(1) of section 1610 of title 28, United States Code, in the interest of national security. This waiver, together with the amendment of subsection (f)(2) of the Foreign Sovereign Immunities Act and the repeal of the subsection (b) of section 117 of the Treasury and General Government Appropriations Act, 1999, supersedes my prior waiver of the requirements of subsections (a) and (b) of said section 117, executed on October 21, 1998.

The Secretary of State is authorized and directed to publish this determination in the Federal Register.

wj

THE WHITE HOUSE,

Washington, October 28,2000.

[FR Doc. 00-28533

Filed 11-03-00; 8:45 am]

Billing code 4710-10-M